DEPARTMENT OF JUSTICE

Antitrust Division

Notice Pursuant to the National Cooperative Research and Production Act of 1993—Rapid Response Partnership Vehicle

Notice is hereby given that, on July 7, 2025, pursuant to section 6(a) of the National Cooperative Research and Production Act of 1993, 15 U.S.C. 4301 et seq. (“the Act”), Rapid Response Partnership Vehicle (“RRPV”) has filed written notifications simultaneously with the Attorney General and the Federal Trade Commission disclosing changes in its membership. The notifications were filed for the purpose of extending the Act's provisions limiting the recovery of antitrust plaintiffs to actual damages under specified circumstances.

Specifically, Alveo Technologies, Inc., Alameda, CA; Arcology, Inc., Culver City, CA; Athari BioSciences, Sterling, VA; BIOQUAL, Inc., Rockville, MD; BioFactura, Inc., Frederick, MD; Biomeme, Inc., Philadelphia, PA; Commense Bio, Inc., Boulder, CO; Deloitte Consulting LLP, Arlington, VA; Faro Molecular, Inc., Salt Lake City, UT; Fluxergy, Irvine, CA; Global Key Solutions Corp., New York, NY; HYUNDAI BIOSCIENCE USA, Inc., San Jose, CA; NOVODX Corporation, Tequesta, FL; NanoPass Technologies, Ltd., Nes Ziona, STATE OF ISRAEL; NanoViricides, Inc., Shelton, CT; Naval Health Research Center, San Diego, CA; Proactive Dx, Thousand Oaks, CA; Proteios Technology, Inc., Issaquah, WA; READDI, Inc., Research Triangle Park, NC; REDAN LLC, Silver Spring, MD; Research & Development Plus LLC, Charleston, SC; Resonantia Diagnostics, Inc., Durham, NC; Revolution Biomanufacturing, Inc., Canton, MA; Science Systems and Applications, Inc., Lanham, MD; Signum Technologies, Inc., Radnor, PA; Smart World LLC, Fremont, CA; Spectral Platforms, Inc., Duarte, CA; The University of Utah, Salt Lake City, UT; University of Maryland Baltimore, Baltimore, MD; University of Missouri System dba Curators of the University of Missouri, Columbia, MO; and Virongy Biosciences, Inc., Manassas, VA; have been added as parties to this venture.

Also, Asha Therapeutics LLC, Tampa, FL; Endpoint Health, Palo Alto, CA; Kudo Biotechnology, Inc., Needham, MA; PIF Partners LLC, Englewood, NJ; and QUZE Pharmaceuticals, Inc., Windsor, CO; have withdrawn as parties to this venture.

No other changes have been made in either the membership or planned activity of the group research project. Membership in this group research project remains open, and RRPV intends to file additional written notifications disclosing all changes in membership.

On January 5, 2024, RRPV filed its original notification pursuant to section 6(a) of the Act. The Department of Justice published a notice in the Federal Register pursuant to section 6(b) of the Act on April 16, 2024 (89 FR 26928).

The last notification was filed with the Department on April 8, 2025. The Department of Justice published a notice in the Federal Register pursuant to section 6(b) of the Act on June 13, 2025 (90 FR 25080).

Suzanne Morris,
Deputy Director Civil Enforcement Operations, Antitrust Division.

[FR Doc. 2026-00941 Filed 1-16-26; 8:45 am]

BILLING CODE P